DEPARTMENT OF HEALTH AND HUMAN SERVICES

Substance Abuse and Mental Health Services Administration

Notice of Meeting for the Interdepartmental Serious Mental Illness Coordinating Committee

AGENCY: Substance Abuse and Mental Health Services Administration, HHS.

ACTION: Notice.

SUMMARY: The Secretary of Health and Human Services (Secretary), in accordance with section 6031 of the 21st Century Cures Act, announces the inaugural meeting of the Interdepartmental Serious Mental Illness Coordinating Committee (ISMICC). The ISMICC will meet on August 31, 2017, from 9:00 a.m. to 5:00 p.m., Eastern Time. The meeting will be held at the Hubert H. Humphrey Building, 200 Independence Avenue SW., Room 800, Washington, DC 20201.

The meeting will include information on federal advances related to serious mental illness (SMI) and serious emotional disturbance (SED), including data evaluation, and recommendations for action. Committee members will also discuss workgroups, future meetings, and the Report to Congress.

Members of the public can attend the meeting via telephone or webcast. The meeting can be accessed via webcast at www.hhs.gov/live. To obtain the call-in number and access code, submit written or brief oral comments, or request special accommodations for persons with disabilities, please register at the SAMHSA Advisory Committees Web site at https://www.samhsa.gov/about-us/advisory-councils/smi-committee or contact Pamela Foote, Designated Federal Official (see contact information below).

Interested persons may present data, information, or views, orally or in writing, on issues pending before the committee. Written statements should be submitted to the DFO on or before August 24, 2017. Oral presentations from the public will be scheduled at the conclusion of the meeting. Individuals interested in making oral presentations are encouraged to notify the DFO on or before August 24, 2017. Two minutes will be allotted for each presentation.

Substantive meeting information and a roster of Committee members is available at the Committee's Web site https://www.samhsa.gov/about-us/advisory-councils/smi-committee or by contacting Pamela Foote, DFO.

Committee Name: Interdepartmental Serious Mental Illness Coordinating Committee

Dates/Time/Type: August 31, 2017/9:00 a.m.—5:00 p.m./OPEN

Place: Hubert H. Humphrey Building, 200 Independence Avenue SW., Room 800, Washington, DC 20201. Webcast and teleconference (see information above).

DFO: Pamela Foote, Substance Abuse and Mental Health Services Administration, 5600 Fishers Lane, 14E53C, Rockville, MD 20857; telephone: 240-276-1279; email: pamela.foote@samhsa.hhs.gov

SUPPLEMENTARY INFORMATION:

I. Background and Authority

The ISMICC was established on March 15, 2017, in accordance with section 6031 of the 21st Century Cures Act, and the Federal Advisory Committee Act, 5 U.S.C. App., as amended, to report to the Secretary, Congress, and any other relevant federal department or agency on advances in serious mental illness (SMI) and serious emotional disturbance (SED), research related to the prevention of, diagnosis of, intervention in, and treatment and recovery of SMIs, SEDs, and advances in access to services and support for adults with SMI or children with SED. In addition, the ISMICC will evaluate the effect federal programs related to serious mental illness have on public health, including public health outcomes such as (A) rates of suicide, suicide attempts, incidence and prevalence of SMIs, SEDs, and substance use disorders, overdose, overdose deaths, emergency hospitalizations, emergency room boarding, preventable emergency room visits, interaction with the criminal justice system, homelessness, and unemployment; (B) increased rates of employment and enrollment in educational and vocational programs; (C) quality of mental and substance use disorders treatment services; or (D) any other criteria as may be determined by the Secretary. Finally, the ISMICC will make specific recommendations for actions that agencies can take to better coordinate the administration of mental health services for adults with SMI or children with SED. Not later than 1 (one) year after the date of enactment of the 21st Century Cures Act, and 5 (five) years after such date of enactment, the ISMICC shall submit a report to Congress and any other relevant federal department or agency.

II. Structure, Membership, and Operation

This ISMICC consists of federal members listed below or their designees, and non-federal public members.

Federal Membership: The ISMICC will be composed of the following federal members or their designees: The Secretary of HHS; The Assistant Secretary for Mental Health and Substance Use; The Attorney General; The Secretary of the Department of Veterans Affairs; The Secretary of the Department of Defense; The Secretary of the Department of Housing and Urban Development; The Secretary of the Department of Education; The Secretary of the Department of Labor; The Administrator of the Centers for Medicare and Medicaid Services; and The Commissioner of the Social Security Administration.

Non-federal Membership: The ISMICC includes 14 non-federal public members appointed by the Secretary representing, psychologists, psychiatrists, social workers, peer support specialists, and other providers, patients, family of patients, law enforcement, the judiciary, and leading research, advocacy, or service organizations. A roster of Committee members is available at the Committee's Web site: https://www.samhsa.gov/about-us/advisory-councils/smi-committee. The term of office of an ISMICC non-federal member is three years, and is subject to reappointment to serve for one or more additional three-year terms. If a vacancy occurs in the ISMICC among the members, the Secretary shall make an appointment to fill such vacancy within 90 days from the date the vacancy occurs. Any member appointed to fill a vacancy for an unexpired term shall be appointed for the remainder of such term. A member may serve after the expiration of the member's term until a successor has been appointed. Initial appointments shall be made in such a manner as to ensure that the terms of the members will not all expire in the same year. The ISMICC is required to meet twice per year.

Carlos Castillo,
Committee Management Officer.

[FR Doc. 2017-17187 Filed 8-15-17; 8:45 am]

BILLING CODE 4162-20-P